DEPARTMENT OF TRANSPORTATION

Federal Aviation Administration

14 CFR Part 71

[Docket No. FAA-2018-0256; Airspace Docket No. 18-AEA-11]

RIN 2120-AA66

Amendment of Class D Airspace and Class E Airspace; Schenectady, NY, Ithaca, NY, and Albany, NY

AGENCY: Federal Aviation Administration (FAA), DOT.

ACTION: Final rule.

SUMMARY: This action amends Class D airspace, Class E airspace designated as an extension to a Class D surface area, and Class E airspace extending upward from 700 feet or more above the surface at Schenectady County Airport, Schenectady, NY, and Albany, NY by updating the geographic coordinates of this airport, Saratoga County Airport, Hunter NDB, and Cambridge VOR/DME. Controlled airspace is necessary for the safety and management of instrument flight rules (IFR) operations at this airport. This action also replaces the outdated term Airport/Facility Directory with the term Chart Supplement in the legal descriptions of associated Class D and E airspace of Schenectady County Airport, Schenectady, NY, and Ithaca Tompkins Regional Airport, Ithaca, NY. In addition, subsequent to publication, it was noted that the Cambridge VOR/DME was identified as VORTAC. This action corrects the error.

DATES: Effective 0901 UTC, April 25, 2019. The Director of the Federal Register approves this incorporation by reference action under Title 1 Code of Federal Regulations part 51, subject to the annual revision of FAA Order 7400.11 and publication of conforming amendments.

ADDRESSES: FAA Order 7400.11C, Airspace Designations and Reporting Points, and subsequent amendments can be viewed online at http://www.faa.gov/air_traffic/publications/. For further information, you can contact the Airspace Policy Group, Federal Aviation Administration, 800 Independence Avenue SW, Washington, DC, 20591; telephone: (202) 267-8783. The Order is also available for inspection at the National Archives and Records Administration (NARA). For information on the availability of FAA Order 7400.11C at NARA, call (202) 741-6030, or go to https://www.archives.gov/federal-register/cfr/ibr-locations.html.

FAA Order 7400.11, Airspace Designations and Reporting Points, is published yearly and effective on September 15.

FOR FURTHER INFORMATION CONTACT: John Fornito, Operations Support Group, Eastern Service Center, Federal Aviation Administration, 1701 Columbia Avenue, College Park, GA 30337; telephone (404) 305-6364.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends Class D airspace and Class E airspace at Schenectady County Airport, Schenectady, NY, Ithaca Tompkins Regional Airport, Ithaca, NY, and Saratoga County Airport, Albany, NY to support IFR operations at these airports.

History

The FAA published a notice of proposed rulemaking in the Federal Register (83 FR 60378, November 26, 2018) for Docket No. FAA-2018-0256 to amend Class D airspace and Class E airspace at Schenectady County Airport, Schenectady, NY, Ithaca Tompkins Regional Airport, Ithaca, NY, and Saratoga County Airport, Albany, NY to support IFR operations at these airports.

Interested parties were invited to participate in this rulemaking effort by submitting written comments on the proposal to the FAA. No comments were received.

Class D and Class E airspace designations are published in paragraphs 5000, 6002, 6004, and 6005, respectively, of FAA Order 7400.11C dated August 13, 2018, and effective September 15, 2018, which is incorporated by reference in 14 CFR part 71.1. The Class D and Class E airspace designation listed in this document will be published subsequently in the Order.

Availability and Summary of Documents for Incorporation by Reference

This document amends FAA Order 7400.11C, Airspace Designations and Reporting Points, dated August 13, 2018, and effective September 15, 2018. FAA Order 7400.11C is publicly available as listed in the ADDRESSES section of this document. FAA Order 7400.11C lists Class A, B, C, D, and E airspace areas, air traffic service routes, and reporting points.

The Rule

This amendment to Title 14 Code of Federal Regulations (14 CFR) part 71 amends Class D airspace, Class E airspace designated as an extension to a Class D surface area, at Schenectady County Airport, Schenectady, NY and Class E airspace area extending upward from 700 feet or more above the surface at Albany, NY, by updating the geographic coordinates of Saratoga County Airport, Hunter NDB, and Cambridge VOR/DME to be in concert with the FAA's aeronautical database. Also, an editorial change is be made replacing the outdated term Airport/Facility Directory with the term Chart Supplement in the associated Class D and E airspace legal descriptions for Schenectady County Airport, Schenectady, NY, and Ithaca Tompkins Regional Airport, Ithaca, NY. These changes enhance the safety and management of IFR operations at these airports. In addition, subsequent to publication, it was noted that the Cambridge VOR/DME was identified as VORTAC. This action corrects the error.

Regulatory Notices and Analyses

The FAA has determined that this regulation only involves an established body of technical regulations for which frequent and routine amendments are necessary to keep them operationally current. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of Federal Aviation Administration Order 7400.11C, Airspace Designations and Reporting Points, dated August 13, 2018, and effective September 15, 2018, is amended as follows:

Paragraph 5000 Class D Airspace.

* * * * *

AEA NY D Schenectady, NY [Amended]

Schenectady County Airport, NY

(Lat. 42°51′9″ N, long. 73°55′44″ W)

That airspace extending upward from the surface to and including 2,900 feet MSL within a 4.3-mile radius of Schenectady County Airport, excluding the portion that coincides with the Albany, NY, Class C airspace area. This Class D airspace area is effective during specific dates and times established in advance by a Notice to Airmen. The specific date and time will thereafter be continuously published in the Chart Supplement.

AEA NY D Ithaca, NY [Amended]

Ithaca Tompkins Regional Airport, Ithaca, NY

(Lat. 42°29′29″ N, long. 76°27′31″ W)

That airspace extending upward from the surface to and including 3,600 feet MSL within a 4-mile radius of Ithaca Tompkins Regional Airport. This Class D airspace area is effective during specific dates and times established in advance by a Notice to Airmen. The specific date and time will thereafter be continuously published in the Chart Supplement.

Paragraph 6002 Class E Surface Airspace.

* * * * *

AEA NY E2 Ithaca, NY [Amended]

Ithaca Tompkins Regional Airport, Ithaca, NY

(Lat. 42°29′29″ N, long. 76°27′3″ W)

Ithaca VOR/DME

(Lat. 42°29′42″ N, long. 76°27′35″ W)

That airspace extending upward from the surface within a 4-mile radius of Ithaca Tompkins Regional Airport and that airspace extending upward from the surface from the 4-mile radius of the airport to the 5.7-mile radius of the airport clockwise from the 329° bearing to the 081° bearing from the airport; that airspace from the 4-mile radius of the airport to the 8.7-mile radius of the airport extending clockwise from the 081° bearing to the 137° bearing from the airport; that airspace from the 4-mile radius of the airport to the 6.6-mile radius of the airport extending clockwise from the 137° bearing to the 170° bearing from the airport; that airspace from the 4-mile radius to the 5.7-mile radius of the airport extending clockwise from the 170° bearing to the 196° bearing from the airport, and that airspace within 2.7 miles each side of the Ithaca VOR/DME 305° radial extending from the 4-mile radius of the airport to 7.4 miles northwest of the Ithaca VOR/DME. This Class E airspace area is effective during the specific dates and times established in advance by a Notice to Airmen. The effective date and time will thereafter be continuously published in the Chart Supplement.

Paragraph 6004 Class E Airspace Designated as an Extension to a Class D Surface Area.

* * * * *

AEA NY E4 Schenectady, NY [Amended]

Schenectady County Airport, NY

(Lat. 42°51′9″ N, long. 73°55′44″ W)

Hunter NDB

(Lat. 42°51′15″ N, long. 73°56′01″ W)

That airspace extending upward from the surface within 2.5 miles each side of a 032° bearing from the Hunter NDB extending from the 4.3-mile radius of Schenectady County Airport to 7 miles northeast of the NDB.

AEA NY E4 Ithaca, NY [Amended]

Ithaca Tompkins Regional Airport, Ithaca, NY

(Lat. 42°29′29″ N, long. 76°27′31″ W)

Ithaca VOR/DME

(Lat. 42°29′42″ N, long. 76°27′35″ W)

That airspace extending upward from the surface from the 4-mile radius of the Ithaca Tompkins Regional Airport to the 5.7-mile radius of the airport; clockwise from the 329° bearing to the 081° bearing from the airport; that airspace from the 4-mile radius of Ithaca Tompkins Regional Airport to the 8.7-mile radius of the airport extending clockwise from the 081° bearing to the 137° from the airport; that airspace from the 4-mile radius of Ithaca Tompkins Regional Airport; to the 6.6-mile radius of the airport, extending clockwise from the 137° bearing to the 170° bearing from the airport; that airspace from the 4-mile radius to the 5.7-mile radius of the Ithaca Tompkins Regional Airport, extending clockwise from the 170° bearing to the 196° bearing from the airport; and that airspace within 2.7 miles each side of the Ithaca VOR/DME 305° radial extending from the 4-mile radius of Ithaca Tompkins Regional Airport to 7.4 miles northwest of the Ithaca VOR/DME.

Paragraph 6005 Class E Airspace Areas Extending Upward From 700 Feet or More Above the Surface of the Earth.

* * * * *

AEA NY E5 Albany, NY [Amended]

Albany VORTAC

(Lat. 42°44′50″ N, long. 73°48′11″ W)

Hunter NDB

(Lat. 42°51′15″ N, long. 73°56′01″ W)

Schenectady County Airport, NY

(Lat. 42°51′9″ N, long. 73°55′44″ W)

Saratoga County Airport, NY

(Lat. 43°03′03″ N, long. 73°51′42″ W)

Cambridge VOR/DME

(Lat. 42°59′39″ N, long. 73°20′38″ W)

That airspace extending upward from 700 feet above the surface within the area bounded by a point on the Albany VORTAC 007° radial 20 miles north of the VORTAC, thence clockwise along the arc of a 20-mile radius circle centered on the Albany VORTAC to its point of intersection with the Albany VORTAC 037° radial, thence southwest along the Albany VORTAC 037° radial to a point 10.5 miles northeast of the VORTAC, thence clockwise along the arc of a 10.5-mile radius circle centered on the Albany VORTAC, to its point of intersection with a line 3.5 miles southeast of the Hunter NDB 207° bearing and within 3.5 miles each side of the 207° bearing from the Hunter NDB extending from the Hunter NDB to 15.3 miles southwest of the NDB and thence clockwise along the arc of the 7.9-mile radius circle centered on the Hunter NDB to its point of intersection with a line 1.8 miles south and parallel to the extended centerline of the Schenectady County Airport Runway 28, thence west along this parallel line to its point of intersection with the arc of a 11.3-mile radius circle centered on the Hunter NDB, thence clockwise along the arc of this 11.3-mile radius circle to its point of intersection with the 342° bearing from the Hunter NDB, thence north along a line bearing 356° from this point to the point of intersection of this line and the arc of a 16.6-mile radius circle centered on the Hunter NDB and thence clockwise along the arc of the 16.6-mile radius circle centered on the NDB to its point of intersection with the arc of a 20-mile radius circle centered on the Albany VORTAC and within 4.4 miles each side of the Albany VORTAC 082° radial extending from the Albany VORTAC to 16.1 miles east of the VORTAC and within a 6.4-mile radius of Saratoga County Airport and within 3.5 miles each side of the Cambridge VOR/DME 279° radial extending from 37.5 miles west of the Cambridge VOR/DME to the 6.4-mile radius area.

Issued in College Park, Georgia, on February 8, 2019.
Ryan W. Almasy,
Manager, Operations Support Group, Eastern Service Center, Air Traffic Organization.

[FR Doc. 2019-02687 Filed 2-19-19; 8:45 am]

BILLING CODE 4910-13-P